ENVIRONMENTAL PROTECTION AGENCY

[FRL-6906-9]

Agency Information Collection Activities: Submission for OMB Review; Comment Request, National Emissions Standards for Hazardous Air Pollutants (NESHAP) for Pesticide Active Ingredient (PAI) Production

AGENCY: Environmental Protection Agency (EPA).

ACTION: Notice.

SUMMARY: In compliance with the Paperwork Reduction Act (44 U.S.C. et seq.), this document announces that the following Information Collection Request (ICR) has been forwarded to the Office of Management and Budget (OMB) for review and approval: National Emissions Standards for Hazardous Air Pollutants (NESHAP) for Pesticide Active Ingredient (PAI) Production, Part 63, Subpart MMM, OMB Number 2060-0370, expiration date 11/30/2000. The ICR describes the nature of the information collection and its expected burden and cost; where appropriate, it includes the actual data collection instrument.

DATES: Comments must be submitted on or before December 26, 2000.

ADDRESSES: Send comments, referencing EPA ICR No. 1807.02 and OMB Control No. 2060-0370, to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-Mail at Farmer.Sandy@epamail.epa.gov or download off the Internet at http://www.epa.gov/icr and refer to EPA ICR No. 1807.02. For technical questions about the ICR contact Stephen Howie at 202-564-4146.

SUPPLEMENTARY INFORMATION: Title: National Emissions Standards for Hazardous Air Pollutants (NESHAP) for Pesticide Active Ingredient (PAI) Production (OMB Control Number 2060-0370, EPA ICR No. 1807.02, expiration date 11/30/2000). This is a request for extension of a currently approved collection.

Abstract: The Administrator has judged that the pollutants emitted from PAI production facilities cause or contribute significantly to air pollution that may reasonably be anticipated to endanger public health. Owners or operators of PAI production facilities to which this regulation applies must choose one of the compliance options described in the rule or install and monitor a specific control system that reduces HAP emissions to the compliance level. The respondents are subject to sections of subpart A of 40 CFR part 63 relating to NESHAP. These requirements include those associated with the applicability determination; the notification that the facility is subject to the rule; and the notification of testing (control device performance test and continuous monitoring system (CMS) performance evaluation); the results of performance testing and CMS performance evaluations; startup, shutdown, and malfunction reports; and semiannual or quarterly summary reports and/or excess emissions and CMS performance reports. In addition to the requirements of subpart A, many respondents are required to submit a precompliance plan and LDAR reports, and plants that wish to implement emissions averaging provisions must submit an emissions averaging plan.

Respondents electing to comply with the emission limit or emission reduction requirements for process vents, storage tanks, or wastewater must record the values of equipment operating parameters as specified in 40 CFR 63.1367 of the rule. If the owner or operator identifies any deviation resulting from a known cause for which no Federally-approved or promulgated exemption from an emission limitation or standard applies, the compliance report shall also include all records that the source is required to maintain that pertain to the periods during which such deviation occurred, as well as the following: the magnitude of each deviation; the reason for each deviation; a description of the corrective action taken for each deviation, including action taken to minimize each deviation and action taken to prevent recurrence; and a copy of all quality assurance activities performed on any element of the monitoring protocol.

Owners or operators of PAI production facilities subject to the rule must maintain a copy of all monitored equipment operating parameter values that demonstrate compliance with the standards. Records and reports must be retained for a total of 5 years (2 years at the site; the remaining 3 years records may be retained off-site). The files may be maintained on microfilm, on a computer or floppy disks, on magnetic tape disks, or on microfiche.

Since many of the facilities potentially affected by the NESHAP standards are currently subject to new source performance standards (NSPS), the standards include an exemption from the NSPS for those sources. That exemption eliminates a duplication of information collection requirements.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on April 16, 2000 (65 FR 20813); no comments were received.

Burden Statement: The annual public reporting and recordkeeping burden for this collection of information is estimated to average 143 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Pesticide Active Ingredient Production Facilities.

Estimated Number of Respondents: 84.

Frequency of Response: Semi-annually.

Estimated Total Annual Hour Burden: 53,752.

Estimated Total Annualized Capital, O&M Cost Burden: $2,235,000.

Send comments on the Agency's need for this information, the accuracy of the provided burden estimates, and any suggested methods for minimizing respondent burden, including through the use of automated collection techniques to the following addresses. Please refer to EPA ICR No. 1807.02 and OMB Control No. 2060-0370 in any correspondence.

Dated: November 10, 2000.
Oscar Morales,
Director, Collection Strategies Division.

[FR Doc. 00-30009 Filed 11-22-00; 8:45 am]

BILLING CODE 6560-50-P